COMMITTEE FOR PURCHASE FROM PEOPLE WHO ARE BLIND OR SEVERELY DISABLED

Procurement List; Additions and Deletions

AGENCY: Committee for Purchase From People Who Are Blind or Severely Disabled.

ACTION: Additions to and Deletions from the Procurement List.

SUMMARY: This action adds products to the Procurement List that will be furnished by a nonprofit agency employing persons who are blind or have other severe disabilities, and deletes products and a service from the Procurement List previously furnished by such agencies.

DATES: Effective: October 2, 2016.

ADDRESSES: Committee for Purchase From People Who Are Blind or Severely Disabled, 1401 S. Clark Street, Suite 715, Arlington, Virginia 22202-4149.

FOR FURTHER INFORMATION CONTACT: Barry S. Lineback, Telephone: (703) 603-7740, Fax: (703) 603-0655, or email CMTEFedReg@AbilityOne.gov.

SUPPLEMENTARY INFORMATION:

Additions

On 7/29/2016 (81 FR 49960-49961), the Committee for Purchase From People Who Are Blind or Severely Disabled published notice of proposed additions to the Procurement List.

After consideration of the material presented to it concerning capability of qualified nonprofit agencies to provide the products and impact of the additions on the current or most recent contractors, the Committee has determined that the products listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products to the Government.

2. The action will result in authorizing small entities to furnish the products to the Government.

3. There are no known regulatory alternatives which would accomplish the objectives of the Javits-Wagner-O'Day Act (41 U.S.C. 8501-8506) in connection with the products proposed for addition to the Procurement List.

End of Certification

Accordingly, the following products are added to the Procurement List:

Products

NSN(s)—Product Name(s):

MR 13001—Greensaver Produce Keeper, 1.6 Qt.

MR 13002—Greensaver Produce Keeper, 4.3 Qt.

MR 13004—Greensaver Crisper Insert

Mandatory Source(s) of Supply:

Cincinnati Association for the Blind, Cincinnati, OH

Mandatory Purchase for: The requirements of military commissaries and exchanges in accordance with the Code of Federal Regulations, Chapter 51, 51-6.4.

Contracting Activity: Defense Commissary Agency

Distribution: C-List

Deletions

On 5/6/2016 (81 FR 27419-27420) and 7/29/2016 (81 FR 49960-49961), the Committee for Purchase From People Who Are Blind or Severely Disabled published notices of proposed deletions from the Procurement List.

After consideration of the relevant matter presented, the Committee has determined that the products and service listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and service to the Government.

3. There are no known regulatory alternatives which would accomplish the objectives of the Javits-Wagner-O'Day Act (41 U.S.C. 8501-8506) in connection with the products and service deleted from the Procurement List.

End of Certification

Accordingly, the following products and service are deleted from the Procurement List:

Products

NSN(s)—Product Name(s):

8470-01-442-2990—Suspension Assembly for PASGT Helmet, Improved. Specification MIL-S-44097

8470-01-442-2995—Suspension Assembly for PASGT Helmet, Improved. Specification MIL-S-44097

8470-01-442-3001—Suspension Assembly for PASGT Helmet, Improved. Specification MIL-S-44097

8470-01-442-3021—Suspension Assembly for PASGT Helmet, Improved. Specification MIL-S-44097

Mandatory Source(s) of Supply: Georgia Industries for the Blind, Bainbridge, GA; Travis Association for the Blind, Austin, TX; Winston-Salem Industries for the Blind, Inc., Winston-Salem, NC

Contracting Activity: Defense Logistics Agency Troop Support

NSN(s)—Product Name(s): MR 890—Barbecue, Display, 4 Tool

Mandatory Source(s) of Supply: Cincinnati Association for the Blind, Cincinnati, OH

Contracting Activity: Defense Commissary Agency

NSN(s)—Product Name(s): MR 1032—Rag, Cleaning, White; MR 1145—Server, Gravy Boat

Mandatory Source(s) of Supply: Winston-Salem Industries for the Blind, Inc., Winston-Salem, NC

Contracting Activity: Defense Commissary Agency

NSN(s)—Product Name(s): 6230-00-643-3562—Lantern, Electric, Head; 6230-01-493-7630—Lighting Pro VR-5AA Headlight

Mandatory Source(s) of Supply: Easter Seals Capital Region & Eastern Connecticut, Inc., Windsor, CT

Contracting Activity: General Services Administration, Fort Worth, TX

NSN(s)—Product Name(s): 6230-01-285-4396—Lantern, Electric, Fireman's Helmet

Mandatory Source(s) of Supply: Easter Seals Capital Region & Eastern Connecticut, Inc., Windsor, CT

Contracting Activity: Defense Logistics Agency Aviation

Service

Service Type: Janitorial/Custodial Service

Mandatory for: Veterans Center #402: 4161 Cass, Detroit, MI

Mandatory Source(s) of Supply: Jewish Vocational Service and Community Workshop, Southfield, MI

Contracting Activity: Department of Veterans Affairs

Barry S. Lineback,
Director, Business Operations.

[FR Doc. 2016-21208 Filed 9-1-16; 8:45 am]

BILLING CODE 6353-01-P